Proclamation 8171 of August 30, 2007

National Employer Support of the Guard and Reserve Week, 2007

By the President of the United States of America

A Proclamation

During National Employer Support of the Guard and Reserve Week, we recognize the vital contributions of the brave men and women who serve our great Nation, and we pay tribute to the employers who support them.

The courageous men and women of the National Guard and Reserve are fighting a new and unprecedented war, having answered the call to defend our freedom and way of life. At home, the National Guard is working to protect our borders, and provide vital aid and assistance in times of crisis and natural disasters. The dedicated service of those who wear the uniform reflects the best of America, and all Americans are proud to stand behind the men and women of the National Guard and Reserve.

Our Nation also appreciates the sacrifice of employers across our country who support the important mission of our National Guard and Reserve personnel. Employers across America demonstrate their patriotism by providing time off, pay, health-care benefits, and job security to their Guard and Reserve employees, helping them prepare for their return to families and to civilian life. The commitment of our Nation's employers is a vital and integral part of the success of our Armed Forces.

During National Employer Support of the Guard and Reserve Week, we offer our country's deepest gratitude to the dedicated men and women of the National Guard and Reserve and to the employers who support them in their important service to our Nation.

NOW, THEREFORE, I, GEORGE W. BUSH, President of the United States of America, by virtue of the authority vested in me by the Constitution and laws of the United States, do hereby proclaim September 9 through September 15, 2007, as National Employer Support of the Guard and Reserve Week. I encourage all Americans to join me in expressing our thanks to members of our National Guard and Reserve and their civilian employers for their patriotism and sacrifices on behalf of our Nation. I also call upon State and local officials, private organizations, businesses, and all military commanders to observe this week with appropriate ceremonies and activities.

IN WITNESS WHEREOF, I have hereunto set my hand this thirtieth day of August, in the year of our Lord two thousand seven, and of the Independence of the United States of America the two hundred and thirty-second.

[FR Doc. 07-4372

Filed 9-4-07; 8:45 am]

Billing code 3195-01-P